DEPARTMENT OF THE INTERIOR

Bureau of Indian Affairs

Irrigation Rate Adjustment, Colorado River Irrigation Project

AGENCY: Bureau of Indian Affairs, Interior.

ACTION: Notice of Proposed Irrigation Operation and Maintenance Rate Adjustment.

SUMMARY: The Bureau of Indian Affairs (BIA) proposes to adjust the excess water rates assessed to customers of the Colorado River Irrigation Project for the 2001 irrigation season and subsequent years. We request your comments on the proposed rate adjustment.

DATES: Interested parties may submit comments on the proposed rate adjustment. Comments must be submitted on or before November 26, 2001.

ADDRESSES: All comments concerning the proposed rate adjustment must be in writing and addressed to: Director, Office of Trust Responsibilities, Attn.: Irrigation and Power, MS-3061-MIB, Code 210, 1849 C Street, NW, Washington, D.C. 20240.

FOR FURTHER INFORMATION CONTACT: Jeff Hikins, Bureau of Indian Affairs, Colorado River Agency, Rt. 1, Box 9-C, Parker, AZ 85334. Phone Number: (520) 669-7111.

SUPPLEMENTARY INFORMATION:

Where Can Information on the Regulatory and Legal Citations in This Notice Be Obtained?

You can contact the Colorado River Irrigation Project office at the location stated above or you can use the internet site for the Government Printing Office at http://www.gpo.gov.

What Is the Purpose of This Notice?

This notice is to notify you that we propose to adjust the irrigation assessment rates for one of our irrigation projects. We are publishing the notice in accordance with the BIA's regulations governing its operation and maintenance of irrigation projects, specifically, sections 171.1(e) and 171.1(f) of part 171, subchapter H, chapter I of title 25 of the Code of Federal Regulations. These sections provide for the fixing and announcing of the rates for annual operation and maintenance assessments and related information for BIA irrigation projects.

What Authorizes Us To Issue This Notice?

Our authority to issue this notice is vested in the Secretary of the Interior by 5 U.S.C. 301; the Act of August 14, 1914 (38 Stat. 583; 25 U.S.C. 385). The Secretary has in turn delegated this authority to the Assistant Secretary—Indian Affairs in accordance with part 209 of the Department of the Interior's Departmental Manual, Chapter 8.1A and a memorandum dated January 25, 1994, from the Chief of Staff, Department of the Interior, to Assistant Secretaries, and Heads of Bureaus and Offices.

How Do We Calculate Our Irrigation Rate?

We calculate the assessment rate in accordance with section 171(f), subchapter H, chapter I of title 25 of the Code of Federal Regulations by estimating the cost of normal operation and maintenance at our irrigation project for which you receive service. Normal operation and maintenance means the expenses we incur to provide direct support or benefit for the irrigation project's activities for administration, operation, maintenance, and rehabilitation. These costs are then applied as stated in the rate table in this notice.

What Kinds of Expenses Are Included in Determining Our Estimated Cost of Normal Operation and Maintenance?

We include the following expenses:

(a) Personnel salary and benefits for the project engineer/manager and project employees under their management control;

(b) Materials and supplies;

(c) Major and minor vehicle and equipment repairs;

(d) Equipment, including transportation, fuel, oil, grease, lease and replacement;

(e) Capitalization expenses;

(f) Acquisition expenses;

(g) Maintenance of a reserve fund available for contingencies or emergency expenses for, and insuring, reliable operation of the irrigation system; and

(h) Other expenses we determine necessary to properly perform the activities and functions characteristic of an irrigation project.

When Should You Pay Your Irrigation Assessment?

We will mail you a bill for your irrigation assessment. You should pay your bill no later than the due date stated on the bill. The due date is normally based on locally established payment requirements at each of our projects.

What Information Must You Provide Us for Billing Purposes?

We must obtain certain information from you to ensure we can properly process, bill for, and collect monies owed the United States. At a minimum, this information is:

(a) Full legal name of person or entity responsible for paying the bill;

(b) Adequate and correct address for mailing or hand delivering our bill; and

(c) The taxpayer identification number or social security number of the person or entity responsible for paying the bill.

Why Are We Collecting This Information?

We need to collect enough information to properly bill the responsible party and service the account. We are also required to collect the taxpayer identification number or social security number under the authority of, and as prescribed, in the Debt Collection Improvement Act of 1996, Public Law 104-134.

What Can Happen if You Do Not Provide the Information We Require for Billing Purposes?

We can refuse to provide you service as prescribed in section 171.17(a), subchapter H, chapter I of title 25 of the Code of Federal Regulations.

What Can Happen if You Don't Pay Your Bill by the Due Date and Could This Affect Your Water Delivery?

If you do not pay your bill by the due date, you will receive a past due notice no less than 30 days after the due date. We have the right to refuse water delivery to any of your irrigated project land that the bill is past due. We can continue to refuse water delivery until you pay your bill or make payment arrangements that we agree to. Your bill will have additional information concerning your rights. Our authority to demand payment of your past due bill is the Code of Federal Regulations, Title 31, Part 901.2, “Demand for payment.”

Are There Any Additional Charges if You Are Late Paying Your Bill?

Yes. We will use the value of funds to the United States Treasury to calculate the interest you will be assessed beginning 30 days after the due date on your bill. Also, you will be charged an administrative fee of $12.50 for each time we try to collect your past due bill; and, should your bill become over 90 days past due, you will be assessed a penalty charge of 6 percent per year and it will accrue from the date your bill initially became past due. Our authority to assess interest, penalties, and administration fees on past due bills is prescribed in the Code of Federal Regulations, Title 31, part 901.9, “Interest penalties, and administration costs.”

What Else Can Happen to Your Past Due Bill?

If you do not pay your bill or make payment arrangements that we agree to, we are required to forwarded your past due bill to the United States Treasury (Treasury) for further action. We must forward your bill to Treasury no later than 180 days after the original due date of your irrigation assessment bill. The requirement for us to do this is in Code of Federal Regulations, Title 31, part 901.1, “Aggressive agency collection activity.”

What Irrigation Assessments or Charges Are Proposed for Adjustment by This Notice?

The excess water assessment rates for the 2001 irrigation season and subsequent years is proposed to be decreased retroactively to July 1, 2001, for the current irrigation season. A review of the excess water collections indicates the rate can be reduced to better reflect the financial needs of the project. The first 0.5 acre-foot of excess water above the basic per acre allotment of 5.0 acre-feet of water per acre is proposed to be reduced to $7.40 per acre assessed. The assessment for additional excess water over the initial 0.5 acre-foot per acre is unchanged at $17.00 per acre-foot per acre. Consultations with the project water users and the Colorado River Indian Tribes (Tribes) have resulted in the proposed rate adjustment. We are not proposing to adjust the basic assessment charge which includes up to 5.0 acre-feet per acre at this time.

The following table illustrates the proposed rate adjustment:

Water delivered per acre | Present 2001 irrigation season | Proposed 2001 irrigation season
Up to 5.0 acre-feet | $37.00 | Unchanged
5.0 to 5.5 acre-feet | 17.00 | $7.40
Above 5.5 acre-feet | 17.00 | Unchanged

Consultation and Coordination With Tribal Governments (Executive Order 13175)

The proposed rate adjustment was developed in consultation between the irrigators, the BIA and the Tribal Irrigation Committee (Committee). The Committee was established by the Tribes and maintains a membership appointed by the Tribal Council. During the March 2001, committee meeting, a budget subcommittee was appointed and tasked to specifically review the excess water rate and make recommendations to the Committee for proposed adjustments. The subcommittee developed a method and rate which would maintain an excess water rate consistent with the previously developed budget. The proposed rate was reviewed and approved by the Committee during their May 2001 meeting. On June 19, 2001, a meeting was held between the Tribes and the BIA. During the meeting the Tribes were informed of the proposed rate adjustment and the impacts associated with this adjustment. The Tribes agreed to the proposed adjustment to the excess water rate and a verifying letter was sent to the Tribes on July 3, 2001.

Throughout the process of reviewing the excess water rate the BIA has relied upon input and consultation with the Tribes through their Irrigation Committee and Water Resource Program activity, to develop an equitable rate for farmers, maximize water conservation and maintain sufficient funds for operation and maintenance of the project.

Actions Concerning Regulations That Significantly Affect Energy Supply, Distribution, or Use (Executive Order 13211)

This is a notice for a rate adjustment at a BIA owned and operated irrigation project. This rate adjustment will have no significant adverse effects on energy supply, distribution, or use (including a shortfall in supply, price increases, and increase use of foreign supplies) should the proposed rate adjustment be implemented.

Regulatory Planning and Review (Executive Order 12866)

This rate adjustment is not a significant regulatory action and does not need to be reviewed by the Office of Management and Budget under Executive Order 12866.

Regulatory Flexibility Act

This rate making is not a rule for the purposes of the Regulatory Flexibility Act because it is “a rule of particular applicability relating to rates.” 5 U.S.C. Section 601(2).

Unfunded Mandates Act of 1995

This rate adjustment imposes no unfunded mandates on any governmental or private entity and is in compliance with the provisions of the Unfunded Mandates Act of 1995.

Takings (Executive Order 12630)

The Department has determined that this rate adjustment does not have significant “takings” implications. The rate adjustment does not deprive the public, state, or local governments of rights or property.

Federalism (Executive Order 13132)

The Department has determined that this rate adjustment does not have significant Federalism effects because it pertains solely to Federal-tribal relations and will not interfere with the roles, rights, and responsibilities of states.

Civil Justice Reform (Executive Order 12988)

In accordance with Executive Order 12988, the Office of the Solicitor has determined that this rule does not unduly burden the judicial system and meets the requirements of sections 3(a) and 3(b)(2) of the Order.

Paperwork Reduction Act of 1995

This rate adjustment does not affect the collections of information which have been approved by the Office of Information and Regulatory Affairs, Office of Management and Budget, under the Paperwork Reduction Act of 1995. The OMB Control Number is 1076-0141 and expires November 30, 2002.

National Environmental Policy Act

The Department has determined that this rate adjustment does not constitute a major Federal action significantly affecting the quality of the human environment and that no detailed statement is required under the National Environmental Policy Act of 1969.

Dated: September 4, 2001.
Neal A. McCaleb,
Assistant Secretary—Indian Affairs.

[FR Doc. 01-23931 Filed 9-24-01; 8:45 am]

BILLING CODE 4310-02-P